DEPARTMENT OF HEALTH AND HUMAN SERVICES

Centers for Disease Control and Prevention

[60Day-22-22GR; Docket No. CDC-2022-0081]

Proposed Data Collection Submitted for Public Comment and Recommendations

AGENCY: Centers for Disease Control and Prevention (CDC), Department of Health and Human Services (HHS).

ACTION: Notice with comment period.

SUMMARY: The Centers for Disease Control and Prevention (CDC), as part of its continuing effort to reduce public burden and maximize the utility of government information, invites the general public and other federal agencies the opportunity to comment on a proposed information collection, as required by the Paperwork Reduction Act of 1995. This notice invites comment on a proposed information collection project titled Milestone Tracker In-App survey to understand the outcome of the Milestone Tracker app on developmental surveillance. This project is designed to evaluate the Milestone Tracker mobile application (app) developed by CDC's “Learn the Signs. Act Early.” program and will be used to understand how the app is being used, if users find it helpful, and if the app helped them to identify a possible developmental concern(s).

DATES: CDC must receive written comments on or before September 12, 2022.

ADDRESSES: You may submit comments, identified by Docket No. CDC-2022-0081 by either of the following methods:

• Federal eRulemaking Portal: www.regulations.gov. Follow the instructions for submitting comments.

• Mail: Jeffrey M. Zirger, Information Collection Review Office, Centers for Disease Control and Prevention, 1600 Clifton Road NE, MS H21-8, Atlanta, Georgia 30329.

Instructions: All submissions received must include the agency name and Docket Number. CDC will post, without change, all relevant comments to www.regulations.gov.

Please note: Submit all comments through the Federal eRulemaking portal (www.regulations.gov) or by U.S. mail to the address listed above.

FOR FURTHER INFORMATION CONTACT: To request more information on the proposed project or to obtain a copy of the information collection plan and instruments, contact Jeffrey M. Zirger, Information Collection Review Office, Centers for Disease Control and Prevention, 1600 Clifton Road NE, MS H21-8, Atlanta, Georgia 30329; Telephone: 404-639-7570; Email: omb@cdc.gov.

SUPPLEMENTARY INFORMATION: Under the Paperwork Reduction Act of 1995 (PRA) (44 U.S.C. 3501-3520), federal agencies must obtain approval from the Office of Management and Budget (OMB) for each collection of information they conduct or sponsor. In addition, the PRA also requires federal agencies to provide a 60-day notice in the Federal Register concerning each proposed collection of information, including each new proposed collection, each proposed extension of existing collection of information, and each reinstatement of previously approved information collection before submitting the collection to the OMB for approval. To comply with this requirement, we are publishing this notice of a proposed data collection as described below.

The OMB is particularly interested in comments that will help:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected;

4. Minimize the burden of the collection of information on those who are to respond, including through the use of appropriate automated, electronic, mechanical, or other technological collection techniques or other forms of information technology, e.g., permitting electronic submissions of responses; and

5. Assess information collection costs.

Proposed Project

Milestone Tracker In-App Survey to Understand the Outcome of the Milestone Tracker App on Developmental Surveillance—New—National Center on Birth Defects and Developmental Disabilities (NCBDDD), Centers for Disease Control and Prevention (CDC)

Background and Brief Description

The Centers for Disease Control and Prevention's “Learn the Signs. Act Early.” program (LTSAE) promotes efforts to increase developmental monitoring across all 50 states, the District of Columbia, and other U.S. territories through its Act Early Initiatives and Act Early Ambassador program, which heavily promote use of CDC's Milestone Tracker app. The app is a tool to help parents and others track and monitor their children's developmental milestones and guide them on next steps for when a child is missing milestones or there are other concerns.

Since the app release in 2017, the program has had limited capability to evaluate target outcomes and impact of use of the app. Without directly asking the app users, the program has no way to know if use of this app is helpful, has made a difference in terms of identifying developmental delays among children, or if it is helping children get the services and support they may need as a result. This web-based survey evaluation will allow LTSAE to collect this information and assess the outcomes and impact of this tool to determine if the app is having the intended impact and should be continued to be made available as is or with improvements.

The goal of the LTSAE program is to improve early identification of developmental delays and disabilities by developing high-quality, evidence informed and parent-friendly tools and resources to facilitate ongoing family-engaged developmental monitoring. The Milestone Tracker app is one of these tools to help parents and other caregivers track early development and link parents and guardians to the appropriate care and resources.

The goal of this project is to evaluate the Milestone Tracker app developed by CDC's “Learn the Signs. Act Early.” program. The evaluation will consist of two brief web surveys at two distinct times during the app user experience. The objectives of these two short surveys is to understand how the app is being used, if users like the app/find it helpful, if the app helped them to identify a possible developmental concern, if they plan to use it again, and what happens as a result of using the app. The resulting survey data will be used to assess user satisfaction with the app as well as to evaluate short term and medium-term outcomes associated with its use.

CDC requests OMB approval for an estimated 8,000 annual burden hours. There is no cost to respondents other than their time to participate.

Estimated Annualized Burden Hours
Type of respondents | Form name | Number of respondents | Number of responses per respondent | Average burden per response (in hours) | Total burden hours
Individuals using the Milestone Tracker app | Milestone Tracker In app Baseline Survey | 200,000 | 1 | 2/60 | 6,667
Individuals using the Milestone Tracker App that have indicated a developmental concern | Milestone Tracker App Follow-up Survey | 40,000 | 1 | 2/60 | 1,333
Total |  |  |  |  | 8,000

Jeffrey M. Zirger,
Lead, Information Collection Review Office, Office of Scientific Integrity, Office of Science, Centers for Disease Control and Prevention.

[FR Doc. 2022-14759 Filed 7-11-22; 8:45 am]

BILLING CODE 4163-18-P